DEPARTMENT OF THE INTERIOR

Fish and Wildlife Service

Notice of Availability of the Draft Sonora Tiger Salamander Recovery Plan for Review and Comment

AGENCY: Fish and Wildlife Service, Interior.

ACTION: Notice of Document Availability.

SUMMARY: The U.S. Fish and Wildlife Service announces the availability for public review of a draft Recovery Plan for the Sonora tiger salamander (Ambystoma tigrinum stebbinsi). The species occurs on lands managed by the U.S. Forest Service, Coronado National Forest; U.S. Department of the Army, Fort Huachuca; and private lands in the San Rafael Valley and adjacent portions of the Huachuca and Patagonia mountains in southeastern Santa Cruz and southwestern Cochise counties, Arizona. The Service solicits review and comment from the public on this draft Plan.

DATES: Comments on the draft Recovery Plan must be received on or before August 15, 2000 to receive consideration by the Service.

ADDRESSES: Persons wishing to review the draft Recovery Plan may obtain a copy by contacting Jim Rorabaugh, Arizona Ecological Services Field Office, U.S. Fish and Wildlife Service, 2321 West Royal Palm Road, Suite 103, Phoenix, Arizona 85021-4951 (602/640-2720 x238). Written comments and materials regarding the plan should be addressed to the Field Supervisor at this same address. Comments and materials received are available on request for public inspection, by appointment, during normal business hours at the above address.

FOR FURTHER INFORMATION CONTACT: Jim Rorabaugh (see ADDRESSES).

SUPPLEMENTARY INFORMATION:

Background

Restoring an endangered or threatened animal or plant species to the point where it is again a secure, self-sustaining member of its ecosystem is a primary goal of the Service's endangered species program. To help guide the recovery effort, the Service is working to prepare recovery plans for most of the listed species native to the United States. Recovery plans describe actions considered necessary for conservation of the species, establish criteria for the recovery levels for downlisting or delisting them, and estimate time and cost for implementing the recovery measures needed.

The Endangered Species Act of 1973 (Act), as amended (16 U.S.C. 1531 et seq.), requires the development of recovery plans for listed species unless such a plan would not promote the conservation of a particular species. Section 4(f) of the Act, as amended in 1988, requires that public notice and an opportunity for public review and comment be provided during recovery plan development. The Service will consider all information presented during a public comment period prior to approval of each new or revised recovery plan. The Service and other Federal agencies will also take these comments into account in the course of implementing approved recovery plans.

The Draft Sonora Tiger Salamander Recovery Plan describes the status, current management, recovery objectives and criteria, and specific actions needed to reclassify the Sonora tiger salamander from endangered to threatened, and to ultimately delist it. The draft Plan was developed by Dr. James Collins and Jonathan Snyder, Arizona State University, Tempe, Arizona, in coordination with the Service and a team of stakeholders (the Participation Team), which included ranchers, landowners and managers, agency representatives, and herpetologists. The salamander currently only breeds in livestock watering tanks in the San Rafael Valley of southeastern Arizona. Its natural breeding habitats are no longer present or are now unsuitable. The salamander is threatened by loss of natural habitats; predation by nonnative fish, bullfrogs, and crayfish; genetic swamping by non-native barred tiger salamanders; disease; low genetic diversity; and collection for bait or translocation by anglers. Actions needed to recover the salamander include maintenance and enhancement of habitats, control of non-native organisms, control of collection and transport of tiger salamanders, actions to reduce spread of disease, monitoring, research, public education and information, and adaptive management. The draft Recovery Plan includes a draft Participation Plan, prepared by the Participation Team, which details how the plan should be implemented to minimize social and economic impacts while still providing for the prompt recovery of the salamander. The Service will work with the Participation Team to address comments received during the comment period. The draft Plan will be revised and finalized based on those comments.

Public Comments Solicited

The Service solicits written comments on the Draft Sonora Tiger Salamander Recovery Plan. All comments received by the date specified above will be considered prior to approval of the plan.

Authority: The authority for this action is Section 4(f) of the Endangered Species Act, 16 U.S.C. 1533(f).

Dated: May 29, 2000.
Nancy M. Kaufman,
Regional Director.

[FR Doc. 00-15117 Filed 6-15-00; 8:45 am]

BILLING CODE 4310-55-P